DEPARTMENT OF JUSTICE

Bureau of Alcohol, Tobacco, Firearms, and Explosives

Agency Information Collection Activities

AGENCY: Bureau of Alcohol, Tobacco, Firearms, and Explosives; Department of Justice.

ACTION: Notice that agency has replaced 30-Day notices for OMB Control Numbers 1140-0032, 1140-0073, 1140-0081, and 1140-0092.

SUMMARY: On July 10, 2025, the Department of Justice erroneously published 30-day notices for four information collection requests. These notices were incorrect, were published prematurely, and the reginfo.gov system did not open them for public comment. The Department published correct notices for these same four ICRs, on July 23, 2025, each with an open 30-day public notice and comment period. Reviewers should disregard the notices published on July 10 and instead review and comment on the notices published on July 23, 2025.

DATES: Persons interested in commenting on these information collections must submit comments on or before August 22, 2025.

ADDRESSES: You should submit written comments and recommendations for the correct information collections discussed in this notice at www.reginfo.gov/public/do/PRAMain. Find the particular information collection you want by selecting “Currently under 30-day Review—Open for Public Comments” or by using the search function and entering either the title of the information collection or the OMB control number listed below. In addition to viewing these information collections at the Federal Register site, you may also view them at www.reginfo.gov. Follow the instructions to view Department of Justice information collections currently under review by OMB.

FOR FURTHER INFORMATION CONTACT: Darwin Arceo, Department Clearance Officer; Policy and Planning Staff, Justice Management Division; United States Department of Justice; Two Constitution Square; 145 N Street NE, 4W-218; Washington, DC 20530.

SUPPLEMENTARY INFORMATION: On July 10, 2025 (90 FR 30701-30705), the Department of Justice erroneously published 30-day notices for four information collection requests: 1140-0032 Records of Acquisition and Disposition: Dealers/Pawnbrokers of Type 01/02 Firearms, and Collectors of Type 03 Firearms; 1140-0073 Furnishing of Explosives Samples; 1140-0081 Appeals of Background Checks; and 1140-0092 Voluntary Magazine Questionnaire for Agencies/Entities That Store Explosive Materials. These notices were incorrect, were published prematurely, and the reginfo.gov system did not open them for public comment. Thereafter, the Department published correct notices for these same four ICRs as planned, on July 23, 2025 (90 FR 34674-34677), each with an open 30-day public notice and comment period that ends on August 22, 2025. As a result, the Department is issuing this notice to inform the public that the first set of notices issued on July 10, 2025, are invalid and canceled. Reviewers and commenters should instead review and comment on the notices published on July 23, 2025.

Kimberly Keravuori,
Federal Register Liaison Officer.

[FR Doc. 2025-14336 Filed 7-28-25; 8:45 am]

BILLING CODE 4410-FY-P